DEPARTMENT OF LABOR

Employee Benefits Security Administration

29 CFR Part 2578

RIN 1210-AA97

Technical Amendments to Appendices to Termination of Abandoned Individual Account Plans; Correction

AGENCY: Employee Benefits Security Administration, Labor.

ACTION: Final rule; correction.

SUMMARY: The Employee Benefits Security Administration published in the Federal Register of April 21, 2006, a notice containing final regulations under the Employee Retirement Income Security Act of 1974, as amended, that facilitate the termination of, and distribution of benefits from, individual account pension plans that have been abandoned by their sponsoring employers (71 FR 20820). Appendices to those regulations contain model notices that may be used to satisfy notification requirements under the regulations. A preparer of the model notices is required to check certain boxes, indicating whether or not certain events have occurred or exist. Inadvertently, the boxes did not appear in the published document. This correction adds the appropriate boxes and makes three unrelated typographical edits. This correction affects only Appendix B and Appendix C. Neither appendix is being changed substantively. The Federal Register and the Government Printing Office require publication of this correction. This correction is occurring on or before the effective date of § 2578.1.

DATES: Effective on May 22, 2006.

FOR FURTHER INFORMATION CONTACT: Stephanie L. Ward, Office of Regulations and Interpretations, Employee Benefits Security Administration, (202) 693-8500. This is not a toll-free number.

SUPPLEMENTARY INFORMATION: In rule FR Doc. 06-3814 published in the Federal Register of April 21, 2006, 71 FR 20820, make the following corrections to Appendix B and Appendix C.

Appendix B to § 2578.1 [Amended]

A. Correction to Appendix B to § 2578.1

On page 71 FR 20843 through 20845, correct Appendix B to read as follows:

BILLING CODE 4150-29-M

Appendix C TO § 2578.1 [Amended]

B. Correction to Appendix C to § 2578.1

On page 71 FR 20846 through 20848, correct Appendix C to read as follows:

Signed at Washington, DC, this 16th day of May, 2006.
Ann L. Combs,
Assistant Secretary, Employee Benefits Security Administration, Department of Labor.

[FR Doc. 06-4696 Filed 5-18-06; 8:45 am]

BILLING CODE 4150-29-C